OFFICE OF THE UNITED STATES TRADE REPRESENTATIVE

Trade Benefits for Andean Countries: Notice of Request for Public Comment Regarding the Designation of Eligible Countries as Andean Trade Promotion and Drug Eradication Act (ATPDEA) Beneficiary Countries

AGENCY: Office of the United States Trade Representative.

ACTION: Notice; request for comments.

SUMMARY: The Trade Policy Staff Committee (TPSC) is requesting the views of interested parties on whether countries named in the Andean Trade Preference Act (ATPA) (19 U.S.C. 3201), as amended by the Andean Trade Promotion and Drug Eradication Act (ATPDEA), meet the eligibility criteria provided for in section 204(b)(6)(B) to qualify for enhanced trade benefits under the ATPDEA. This notice addresses the eligibility criteria that must be considered under the ATPDEA, the countries that may be considered for designation as ATPDEA beneficiary countries, and the deadline for written comments. Furthermore, this notice explains how to make written comments on the eligibility criteria elaborated in the ATPDEA. The TPSC, chaired by USTR, will consider comments received in developing recommendations on country eligibility for the President.

DATES: Public comments are due at USTR no later than 5 p.m., September 16, 2002.

ADDRESSES: Submissions by mail or express delivery: Public Reading Room, ATTN: ATPDEA Eligibility, Office of the United States Trade Representative, 1724 F Street, Room F1P1, NW., Washington, DC 20508. Submissions by electronic mail: FR0030@ustr.gov. See requirements for submissions below.

FOR FURTHER INFORMATION CONTACT: For procedural questions, please contact: Gloria Blue, Office of the United States Trade Representative, 600 17th Street, NW., Room F516, Washington, DC 20508. The telephone number is (202) 395-3475. For substantive questions, contact Bennett Harman, Office of the Americas, Office of the United States Trade Representative, 600 17th Street, NW., Room 523, Washington, DC 20508. The telephone number is (202) 395-5190.

SUPPLEMENTARY INFORMATION: Signed into law on August 6, 2002, the Trade Act of 2002 contains, in Title XXXI, provisions for enhanced trade benefits for eligible Andean countries. Titled the “Andean Trade Promotion and Drug Eradication Act” (ATPDEA), the ATPDEA renews the Andean Trade Preference Act (ATPA), and amends the ATPA to provide preferential treatment for certain products previously excluded from such treatment.

Eligibility Criteria: The enhanced trade benefits under the ATPDEA are available only to countries that the President designates as “ATPDEA beneficiary countries.” The criteria that the President must consider in designating countries as ATPDEA beneficiary countries include the criteria in sections 203(c) and (d) that applied to country eligibility under the ATPA, as well as several new criteria added by the ATPDEA.

Section 203(c) provides that the President shall not designate any eligible country as an ATPDEA beneficiary country:

1. If such country is a Communist country;

2. If such country:

a. Has nationalized, expropriated or otherwise seized ownership or control of property owned by a United States citizen or by a corporation, partnership, or association which is 50 percent or more beneficially owned by United States citizens,

b. Has taken steps to repudiate or nullify any existing contract or agreement with, or any patent, trademark, or other intellectual property of, a United States citizen or a corporation, partnership, or association, which is 50 percent or more beneficially owned by United States citizens, the effect of which is to nationalize, expropriate, or otherwise seize ownership or control of property so owned, or

c. Has imposed or enforced taxes or other exactions, restrictive maintenance or operational conditions, or other measures with respect to property so owned, the effect of which is to nationalize, expropriate, or otherwise seize ownership or control of such property, unless the President determines that:

i. Prompt, adequate, and effective compensation has been or is being made to such citizen, corporation, partnership, or association,

ii. Good-faith negotiations to provide prompt, adequate, and effective compensation under the applicable provisions of international law are in progress, or such country is otherwise taking steps to discharge its obligations under international law with respect to such citizen, corporation, partnership, or association, or

iii. A dispute involving such citizen, corporation, partnership, or association, over compensation for such a seizure has been submitted to arbitration under the provisions of the Convention for the Settlement of Investment Disputes, or in another mutually agreed upon forum, and promptly furnishes a copy of such determination to the Senate and House of Representatives;

3. If such country fails to act in good faith in recognizing as binding or in enforcing arbitral awards in favor of United States citizens or a corporation, partnership, or association which is 50 percent or more beneficially owned by United States citizens, which have been made by arbitrators appointed for each case or by permanent arbitral bodies to which the parties involved have submitted their dispute;

4. If such country affords preferential treatment to the products of a developed country, other than the United States, and if such preferential treatment has, or is likely to have, a significant adverse effect on United States commerce, unless the President:

a. Has received assurances satisfactory to him that such preferential treatment will be eliminated or that action will be taken to assure that there will be no such significant adverse effect, and

b. Reports those assurances to the Congress;

5. If a government-owned entity in such country engages in the broadcast of copyrighted material, including films or television material, belonging to United States copyright owners without their express consent or such country fails to work towards the provision of adequate and effective protection of intellectual property rights;

6. Unless such country is a signatory to a treaty, convention, protocol, or other agreement regarding the extradition of United States citizens; and

7. If such country has not or is not taking steps to afford internationally recognized worker rights (as defined in section 507(4) of the Trade Act of 1974) to workers in the country (including any designated zone in that country).

Paragraphs 1, 2, 3, 5, and 7 shall not prevent the designation of any country as a beneficiary country under this title if the President determines that such designation will be in the national economic or security interest of the United States and reports such determination to the Congress with his reasons therefor.

Section 203(d) provides that, in determining whether to designate any country as an ATPDEA beneficiary country, the President shall take into account:

1. An expression by such country of its desire to be so designated;

2. The economic conditions in such country, the living standards of its inhabitants, and any other economic factors which he deems appropriate;

3. The extent to which such country has assured the United States it will provide equitable and reasonable access to the markets and basic commodity resources of such country;

4. The degree to which such country follows the accepted rules of international trade provided for under the WTO Agreement and the multilateral trade agreements (as such terms are defined in paragraphs (9) and (4), respectively, of section 2 of the Uruguay Round Agreements Act);

5. The degree to which such country uses export subsidies or imposes export performance requirements or local content requirements which distort international trade;

6. The degree to which the trade policies of such country as they relate to other beneficiary countries are contributing to the revitalization of the region;

7. The degree to which such country is undertaking self-help measures to protect its own economic development;

8. Whether or not such country has taken or is taking steps to afford to workers in that country (including any designated zone in that country) internationally recognized worker rights;

9. The extent to which such country provides under its law adequate and effective means for foreign nationals to secure, exercise, and enforce exclusive rights in intellectual property, including patent, trademark, and copyright rights;

10. The extent to which such country prohibits its nationals from engaging in the broadcast of copyrighted material, including films or television material, belonging to United States copyright owners without their express consent;

11. Whether such country has met the narcotics cooperation certification criteria set forth in section 481(h)(2)(A) [deemed to be a reference to section 490 of the Foreign Assistance Act of 1991 by section 6(a) of Public Law 102-583] of the Foreign Assistance Act of 1961 for eligibility for United States assistance; and

12. The extent to which such country is prepared to cooperate with the United States in the administration of the provisions of this Act.

The new criteria, which are set out at new section 204(b)(6)(B), include the following:

1. Whether the beneficiary country has demonstrated a commitment to undertake its obligations under the WTO, including those agreements listed in section 101(d) of the Uruguay Round Agreements Act, on or ahead of schedule, and participate in negotiations toward the completion of the FTAA or another free trade agreement.

2. The extent to which the country provides protection of intellectual property rights consistent with or greater than the protection afforded under the Agreement on Trade-Related Aspects of Intellectual Property Rights described in section 101(d)(15) of the Uruguay Round Agreements Act.

3. The extent to which the country provides internationally recognized worker rights, including:

a. The right of association;

b. The right to organize and bargain collectively;

c. A prohibition on the use of any form of forced or compulsory labor;

d. A minimum age for the employment of children; and

e. Acceptable conditions of work with respect to minimum wages, hours of work, and occupational safety and health.

4. Whether the country has implemented its commitments to eliminate the worst forms of child labor, as defined in section 507(6) of the Trade Act of 1974.

5. The extent to which the country has met the counternarcotics certification criteria set forth in section 4590 of the Foreign Assistance Act of 1961 (22 U.S.C. 2291j) for eligibility for United States assistance.

6. The extent to which the country has taken steps to become a party to and implements the Inter-American Convention Against Corruption.

7. The extent to which the country applies transparent, nondiscriminatory, and competitive procedures in government procurement equivalent to those contained in the Agreement on Government Procurement described in section 101(d)(17) of the Uruguay Round Agreements Act, and contributes to efforts in international fora to develop and implement rules on transparency in government procurement.

8. The extent to which the country has taken steps to support the efforts of the United States to combat terrorism.

Countries Considered To Be Andean Beneficiary Countries: The following countries may be considered for designation as ATPDEA beneficiary countries:

Bolivia

Colombia

Ecuador

Peru

Submitting Comments: Comments may be submitted by mail, express delivery service, or e-mail (to FR0030@ustr.gov). It is strongly recommended that comments submitted by mail or express delivery service also be sent by e-mail. Persons making submissions by e-mail should use the following subject line: “ATPDEA Eligibility.” Documents should be submitted as either WordPerfect, MSWord, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. Similarly, to the extent possible, any attachments to the submission should be included in the same file as the submission itself, and not as separate files.

Persons submitting written comments by mail or express delivery service should provide 20 copies, in English.

Written comments, notices of testimony, and testimony will be placed in a file open to public inspection pursuant to 15 CFR 2003.5, except confidential business information exempt from public inspection in accordance with 15 CFR 2003.6. Confidential business information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file may be made by calling (202) 395-6186. Appointments must be scheduled at least 48 hours in advance.

Christopher S. Wilson,
Acting Assistant United States Trade Representative for the Americas.

[FR Doc. 02-20715 Filed 8-14-02; 8:45 am]

BILLING CODE 3190-01-M